DEPARTMENT OF TRANSPORTATION

Federal Aviation Administration

14 CFR Part 39

[Docket No. FAA-2018-0760; Product Identifier 2018-NM-095-AD]

RIN 2120-AA64

Airworthiness Directives; Dassault Aviation Airplanes

AGENCY: Federal Aviation Administration (FAA), DOT.

ACTION: Notice of proposed rulemaking (NPRM).

SUMMARY: We propose to adopt a new airworthiness directive (AD) for certain Dassault Aviation Model MYSTERE-FALCON 50, MYSTERE-FALCON 900, and FALCON 900EX airplanes. This proposed AD was prompted by reports of cracked reinforcing straps (doublers) on the ailerons of airplanes equipped with blended winglets. This proposed AD would require repetitive detailed inspections for cracking of the upper and lower reinforcing straps on the ailerons, and replacement if necessary. We are proposing this AD to address the unsafe condition on these products.

DATES: We must receive comments on this proposed AD by October 9, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Aviation Partners, Inc., 7299 Perimeter Road South, Seattle, WA 98108-3812; phone: 206-762-1171; email: mwilliams@winglets.com; internet: http://www.aviationpartners.com. You may view this service information at the FAA, Transport Standards Branch, 2200 South 216th St., Des Moines, WA. For information on the availability of this material at the FAA, call 206-231-3195.

Examining the AD Docket

You may examine the AD docket on the internet at http://www.regulations.gov by searching for and locating Docket No. FAA-2018-0760; or in person at Docket Operations between 9 a.m. and 5 p.m., Monday through Friday, except Federal holidays. The AD docket contains this NPRM, the regulatory evaluation, any comments received, and other information. The street address for Docket Operations (phone: 800-647-5527) is in the ADDRESSES section. Comments will be available in the AD docket shortly after receipt.

FOR FURTHER INFORMATION CONTACT: Michael Bumbaugh, Aerospace Engineer, Airframe Section, FAA, Seattle ACO Branch, 2200 South 216th St., Des Moines, WA 98198; phone and fax: 206-231-3522; email: Michael.Bumbaugh@faa.gov.

SUPPLEMENTARY INFORMATION:

Comments Invited

We invite you to send any written relevant data, views, or arguments about this proposal. Send your comments to an address listed under the ADDRESSES section. Include “Docket No. FAA-2018-0760; Product Identifier 2018-NM-095-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

We have received a report indicating that cracked reinforcing straps (doublers) were found on the ailerons of Dassault Aviation airplanes equipped with blended winglets installed in accordance with Supplemental Type Certificate (STC) ST02188SE or STC ST02241SE. This condition is the result of hydrogen embrittlement in the reinforcing strap manufacturing process. If not addressed, this condition could lead to fatigue cracking of the ailerons and subsequent loss of control of the airplane.

Related Service Information Under 1 CFR Part 51

We reviewed Aviation Partners, Inc., Falcon Service Bulletin SBF9-17-001, Revision B, dated December 20, 2017. This service information describes procedures for detailed inspections for any signs of cracking of the external upper and lower reinforcing straps on the left-hand (LH) and right-hand (RH) ailerons.

We also reviewed Aviation Partners, Inc., Falcon Service Bulletin SBF9-17-002, Revision A, dated December 20, 2017. This service information describes procedures for replacing the external upper and lower reinforcing straps on the LH and RH ailerons.

This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would require accomplishing the actions specified in the service information described previously, except as discussed under “Differences Between this Proposed AD and the Service Information.”

Differences Between This Proposed AD and the Service Information

Aviation Partners, Inc., Falcon Service Bulletin SBF9-17-002, Revision A, dated December 20, 2017, specifies salvaging and returning a damaged strap to Aviation Partners, Inc. However, this proposed AD does not include that requirement.

Costs of Compliance

We estimate that this proposed AD affects 70 airplanes of U.S. registry. We estimate the following costs to comply with this proposed AD:

Estimated Costs
Action | Labor cost | Parts cost | Cost per product | Cost on U.S. operators
Repetitive inspections | 1 work-hour × $85 per hour = $85 per inspection cycle | $0 | $85 per inspection cycle | $5,950 per inspection cycle

Estimated Costs for Optional Actions
Action | Labor cost | Parts cost | Cost per product
Replacement (4 doublers) | 32 work-hours × $85 per hour = $2,720 | $4,540 | $7,260

We estimate the following costs to do any necessary replacements that would be required based on the results of the proposed inspection. We have no way of determining the number of aircraft that might need these replacements:

On-Condition Costs
Action | Labor cost | Parts cost | Cost per product
Replacement (per doubler) | 8 work-hours × $85 per hour = $680 | $1,135 | $1,815

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Dassault Aviation: Docket No. FAA-2018-0760; Product Identifier 2018-NM-095-AD.

(a) Comments Due Date

We must receive comments by October 9, 2018.

(b) Affected ADs

None.

(c) Applicability

This AD applies to Dassault Aviation Model MYSTERE-FALCON 50, MYSTERE-FALCON 900, and FALCON 900EX airplanes equipped with blended winglets installed in accordance with the Supplemental Type Certificate (STC) specified in paragraph (c)(1) or (c)(2) of this AD, as applicable.

(1) For Model MYSTERE-FALCON 50 airplanes: STC ST02241SE.

(2) For Model MYSTERE-FALCON 900 and FALCON 900EX airplanes: STC ST02188SE.

(d) Subject

Air Transport Association (ATA) of America Code 57, Ailerons.

(e) Unsafe Condition

This AD was prompted by reports of cracked reinforcing straps (doublers) on the left-hand (LH) and right-hand (RH) ailerons of airplanes equipped with blended winglets. We are issuing this AD to address cracking of aileron reinforcing straps, which could lead to fatigue cracking of the ailerons and subsequent loss of control of the airplane.

(f) Compliance

Comply with this AD within the compliance times specified, unless already done.

(g) Repetitive Inspections and Corrective Action

Within 8 months or 400 flight hours (FH), whichever occurs first, after the effective date of this AD, and thereafter at intervals not to exceed 8 months or 400 FH, whichever occurs first: Do a detailed inspection for cracking of the upper and lower reinforcing straps of the LH and RH ailerons, in accordance with the Accomplishment Instructions of Aviation Partners, Inc., Falcon Service Bulletin SBF9-17-001, Revision B, dated December 20, 2017. If any cracked aileron reinforcing strap is found, before further flight: Replace the reinforcing strap with a new part, in accordance with the Accomplishment Instructions of Aviation Partners, Inc., Falcon Service Bulletin SBF9-17-002, Revision A, dated December 20, 2017.

(h) Terminating Action

Replacement of any aileron reinforcing strap with a new part, in accordance with the Accomplishment Instructions of Aviation Partners, Inc., Falcon Service Bulletin SBF9-17-002, Revision A, dated December 20, 2017, constitutes terminating action for the repetitive inspections required by paragraph (g) of this AD for that part only.

(i) Credit for Previous Actions

(1) This paragraph provides credit for the inspections specified in paragraph (g) of this AD, if those actions were performed before the effective date of this AD using Aviation Partners, Inc., Falcon Service Bulletin SBF9-17-001, dated March 3, 2017; or Aviation Partners, Inc., Falcon Service Bulletin SBF9-17-001, Revision A, dated April 4, 2017.

(2) This paragraph provides credit for the replacement specified in paragraphs (g) and (h) of this AD, if those actions were performed before the effective date of this AD using Aviation Partners, Inc., Falcon Service Bulletin SBF9-17-002, dated March 7, 2017.

(j) No Reporting Requirement and no Parts Return

(1) Although Aviation Partners, Inc., Falcon Service Bulletin SBF9-17-001, Revision B, dated December 20, 2017; and Aviation Partners, Inc., Falcon Service Bulletin SBF9-17-002, Revision A, dated December 20, 2017; specify to submit certain information to the manufacturer, this AD does not include that requirement.

(2) Although Aviation Partners, Inc., Falcon Service Bulletin SBF9-17-002, Revision A, dated December 20, 2017, specifies salvaging and returning a damaged strap to Aviation Partners, Inc., this AD does not include that requirement.

(k) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(l) Related Information

(1) For more information about this AD, contact Michael Bumbaugh, Aerospace Engineer, Airframe Section, FAA, Seattle ACO Branch, 2200 South 216th St., Des Moines, WA 98198; phone and fax: 206-231-3522; email: Michael.Bumbaugh@faa.gov.

(2) For service information identified in this AD, contact Aviation Partners, Inc., 7299 Perimeter Road South, Seattle, WA 98108-3812; phone: 206-762-1171; email: mwilliams@winglets.com; internet: http://www.aviationpartners.com. You may view this service information at the FAA, Transport Standards Branch, 2200 South 216th St., Des Moines, WA. For information on the availability of this material at the FAA, call 206-231-3195.

Issued in Des Moines, Washington, on August 16, 2018.
Michael Kaszycki,
Acting Director, System Oversight Division, Aircraft Certification Service.

[FR Doc. 2018-18148 Filed 8-23-18; 8:45 am]

BILLING CODE 4910-13-P